DEPARTMENT OF COMMERCE

International Trade Administration

[C-570-048]

Certain Carbon and Alloy Steel Cut-to-Length Plate From the People's Republic of China: Amended Final Results of Countervailing Duty Expedited Review

AGENCY: Enforcement and Compliance, International Trade Administration, Department of Commerce.

SUMMARY: The Department of Commerce (Commerce) is amending the final results of the countervailing duty expedited review of certain carbon and alloy steel cut-to-length plate (CTL plate) from the People's Republic of China (China) to correct a ministerial error. The period of review (POR) January 1, 2015, through December 31, 2015.

DATES: Applicable August 23, 2018.

FOR FURTHER INFORMATION CONTACT: Ryan Mullen, AD/CVD Operations, Office V, Enforcement and Compliance, International Trade Administration, U.S. Department of Commerce, 1401 Constitution Avenue NW, Washington, DC 20230; telephone: (202) 482-5260.

SUPPLEMENTARY INFORMATION:

Background

In accordance with section 751(a)(1) of the Tariff Act of 1930, as amended (the Act), and 19 CFR 351.214(k), on July 19, 2018, Commerce published its Final Results of the countervailing duty expedited review of CTL plate from China.¹ On July 24, 2018, Jiangsu Tiangong Tools Company Limited (TG Tools) submitted a request to correct a ministerial error in the Final Results.² No other parties submitted ministerial error allegations or comments on TG Tools' allegations.

¹ See Certain Carbon and Alloy Steel Cut-to-Length Plate from the People's Republic of China: Final Results of Countervailing Duty Expedited Review, 83 FR 34115 (July 19, 2018) (Final Results) and accompanying Issues and Decision Memorandum.

² See TG Tools' Letter, “Ministerial Error Comments,” dated July 24, 2018 (Ministerial Error Comments).

Scope of the Order

The product covered by the order is CTL plate from China. A full description of the scope of the order is contained in the Ministerial Error Memorandum.³

³ See Memorandum, “Expedited Review of the Countervailing Duty Order on Certain Carbon and Alloy Steel Cut-to-Length Plate from the People's Republic of China: Allegation of Ministerial Error in the Final Results,” dated concurrently and hereby adopted by this notice (Ministerial Error Memorandum).

Ministerial Errors

Section 751(h) of the Act and 19 CFR 351.224(f) define a “ministerial error” as an error in addition, subtraction, or other arithmetic function, clerical error resulting from inaccurate copying, duplication, or the like, and any other similar type of unintentional error which the Secretary considers ministerial. As discussed in Commerce's Ministerial Error Memorandum, Commerce finds that a certain error alleged by TG Tools constitutes a ministerial error within the meaning of 19 CFR 351.224(f).⁴

⁴ See Ministerial Error Memorandum.

In the subsidy rate calculation for TG Tools, we made a ministerial error with regard to the attribution methodology for certain grants. In accordance with section 751(h) of the Act and 19 CFR 351.224(e), we are amending the Final Results to correct the ministerial error. Specifically, we are amending the net subsidy rate for TG Tools. The revised net subsidy rate is provided below.

Amended Final Results

As a result of correcting the ministerial error, we determine that the countervailable subsidy rate for the producer/exporter under review to be as follows:

Company | Subsidy rate
Jiangsu Tiangong Tools Company Limited, Tiangong Aihe Company Limited, Jiangsu Tiangong Group Company Limited, Jiangsu Tiangong Mould Steel R&D Center Company Limited | 24.04 percent

Assessment Rates

Pursuant to section 19 CFR 351.214(k)(3)(iii), the amended final results of this expedited review will not be the basis for the assessment of countervailing duties. Upon the issuance of these final results, Commerce will instruct Customs and Border Protection (CBP) to collect cash deposits of estimated countervailing duties for the companies subject to this expedited review, at the rates shown above, on shipments of subject merchandise entered, or withdrawn from warehouse, for consumption on or after the date of publication of the final results of this expedited review. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Disclosure

We intended to disclose the calculations performed for these amended final results to interested parties within five business days of the date of publication of this notice in accordance with 19 CFR 351.224(b).

We are issuing and publishing these results in accordance with sections 751(h) and 777(i)(1) of the Act, and 19 CFR 351.224(e).

Dated: August 17, 2018.
Gary Taverman,
Deputy Assistant Secretary for Antidumping and Countervailing Duty Operations, performing the non-exclusive functions and duties of the Assistant Secretary for Enforcement and Compliance.

[FR Doc. 2018-18195 Filed 8-22-18; 8:45 am]

BILLING CODE 3510-DS-P